DEPARTMENT OF JUSTICE

Notice of Lodging of Proposed Settlement Under the Clean Air Act

On February 13, 2013, the Department of Justice lodged a proposed Consent Decree with the United States District Court for the District of Kansas in the lawsuit entitled United States v. Koch Nitrogen Company, LLC, Civil Action No. 13-cv-02078.

The Complaint states claims on behalf of the United States against Koch Nitrogen Company, LLC, for its violations of the Risk Management Program requirements of the Clean Air Act and 40 CFR part 68 at three of its chemical processing facilities near Ft. Dodge, IA, Dodge City, KS, and Marshalltown, IA. Koch Nitrogen Company, LLC, will resolve its liability by paying a $380,000 civil penalty, and will receive a covenant-not-to-sue from the United States.

The publication of this notice opens a period for public comment on the consent decree. Comments should be addressed to the Assistant Attorney General, Environment and Natural Resources Division, and should refer to United States v. Koch Nitrogen Company, LLC, D.J. Ref. No. 90-5-2-1-09892. All comments must be submitted no later than thirty (30) days after the publication date of this notice. Comments may be submitted either by email or by mail:

To submit comments: | Send them to:
By email | pubcomment-ees.enrd@usdoj.gov.
By mail | Assistant Attorney General U.S. DOJ—ENRD P.O. Box 7611 Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $2.50 (25 cents per page reproduction cost) payable to the United States Treasury.

Robert E. Maher, Jr.,
Acting Deputy Section Chief, Environmental Enforcement Section, Environment and Natural Resources Division.

[FR Doc. 2013-03733 Filed 2-15-13; 8:45 am]

BILLING CODE 4410-15-P